DEPARTMENT OF HEALTH AND HUMAN SERVICES

Centers for Medicare & Medicaid Services

42 CFR Parts 405, 431, 447, 482, 483, 485, and 488

[CMS-3260-N]

RIN 0938-AR61

Medicare and Medicaid Programs; Reform of Requirements for Long-Term Care Facilities; Reopening of Comment Period

AGENCY: Centers for Medicare & Medicaid Services (CMS), HHS.

ACTION: Proposed rule; reopening of comment period.

SUMMARY: This document reopens the comment period for the July 16, 2015 proposed rule entitled “Reform of Requirements for Long-Term Care Facilities”. The comment period for the proposed rule, which ends on September 14, 2015, is reopened for 30 days.

DATES: The comment period for the proposed rule published on July 16, 2015 (80 FR 42168), is reopened and ends on October 14, 2015.

ADDRESSES: In commenting, please refer to file code CMS-3260-P. Because of staff and resource limitations, we cannot accept comments by facsimile (FAX) transmission.

You may submit comments in one of four ways (please choose only one of the ways listed):

1. Electronically. You may submit electronic comments on this regulation to http://www.regulations.gov. Follow the “Submit a comment” instructions.

2. By regular mail. You may mail written comments to the following address ONLY: Centers for Medicare & Medicaid Services, Department of Health and Human Services, Attention: CMS-3260-P, P.O. Box 8010, Baltimore, MD 21244.

Please allow sufficient time for mailed comments to be received before the close of the comment period.

3. By express or overnight mail. You may send written comments to the following address ONLY: Centers for Medicare & Medicaid Services, Department of Health and Human Services, Attention: CMS-3260-P, Mail Stop C4-26-05, 7500 Security Boulevard, Baltimore, MD 21244-1850.

4. By hand or courier. Alternatively, you may deliver (by hand or courier) your written comments ONLY to the following addresses prior to the close of the comment period:

a. For delivery in Washington, DC— Centers for Medicare & Medicaid Services, Department of Health and Human Services, Room 445-G, Hubert H. Humphrey Building, 200 Independence Avenue SW., Washington, DC 20201.

(Because access to the interior of the Hubert H. Humphrey Building is not readily available to persons without federal government identification, commenters are encouraged to leave their comments in the CMS drop slots located in the main lobby of the building. A stamp-in clock is available for persons wishing to retain a proof of filing by stamping in and retaining an extra copy of the comments being filed.)

b. For delivery in Baltimore, MD— Centers for Medicare & Medicaid Services, Department of Health and Human Services, 7500 Security Boulevard, Baltimore, MD 21244-1850.

If you intend to deliver your comments to the Baltimore address, call telephone number (410) 786-9994 in advance to schedule your arrival with one of our staff members.

Comments erroneously mailed to the addresses indicated as appropriate for hand or courier delivery may be delayed and received after the comment period.

For information on viewing public comments, see the beginning of the SUPPLEMENTARY INFORMATION section.

FOR FURTHER INFORMATION CONTACT: Ronisha Blackstone, (410) 786-6633.

SUPPLEMENTARY INFORMATION: On July 16, 2015, we published a proposed rule in the Federal Register (80 FR 42168) entitled, “Reform of Requirements for Long-Term Care Facilities” that would revise the requirements that long-term care facilities must meet to participate in the Medicare and Medicaid programs. The proposed provisions include updating obsolete language, improving clarity, addressing ongoing healthcare priorities, and implementing certain Affordable Care Act provisions. These proposed changes are necessary to reflect the substantial advances that have been made over the past several years in the theory and practice of service delivery and safety. These proposals are also an integral part of our efforts to achieve broad-based improvements both in the quality of health care furnished through federal programs, and in patient safety, while at the same time reducing procedural burdens on providers.

We have received inquiries from Hospital Associations and national industry organizations regarding the 60 day period to submit comments regarding this proposed rule. The organizations stated that they needed additional time to respond to the rule due to the scope and complexity of the proposal. Because of the scope of the proposed rule, and since we have specifically requested the public's comments on various aspect of the rule, we believe that it is important to allow ample time for the public to prepare comments on this proposed rule. Therefore, we have decided to reopen the comment period for an additional 30 days. This document announces the reopening of the public comment period to end on October 14, 2015.

Dated: September 9, 2015.
Andrew M. Slavitt,
Acting Administrator, Centers for Medicare & Medicaid Services.

[FR Doc. 2015-23110 Filed 9-11-15; 8:45 am]

BILLING CODE 4120-01-P